DEPARTMENT OF ENERGY

Federal Energy Regulatory Commission

[Docket No. ER22-2355-000]

GridLiance Heartland LLC; Notice of Motion for Extension of Time

On November 8, 2024, GridLiance Heartland LLC (GridLiance Heartland) filed a motion for an extension of time to submit a compliance filing explaining the timelines for calculating or submitting ambient-adjusted ratings (AAR) in compliance with Order Nos. 881 and 881-A ¹ and the Commission's July 27, 2023, order ² to implement GridLiance Heartland's compliance revisions in Attachment T to its Open Access Transmission Tariff (OATT).³

¹ Managing Transmission Line Ratings, Order No. 881, 177 FERC ¶ 61,179 (2021), order addressing arguments raised on reh'g, Order No. 881-A, 179 FERC ¶ 61,125 (2022).

² GridLiance Heartland LLC, 184 FERC ¶ 61,043 (2023) (July 2023 Order).

³ Motion, Transmittal Letter at 1.

GridLiance Heartland states that it no longer retains operational control over any of its transmission facilities and no longer provides transmission service for any transmission lines under the GridLiance Heartland OATT.⁴ GridLiance Heartland explains that because all of its facilities are now under the operational control of the Midcontinent Independent System Operator, Inc. (MISO), AARs for its transmission lines will be submitted directly to MISO in accordance with the timelines required by the MISO procedures, rather than being calculated and posted pursuant to Attachment T of the GridLiance Heartland OATT.⁵ GridLiance Heartland therefore requests an extension of time to submit the further compliance filing required by the July 2023 Order until such time as GridLiance Heartland acquires transmission lines that are governed by the GridLiance Heartland OATT.⁶

⁴ Id. at 1-2.

⁵ Id. at 2-3.

⁶ Id. at 3.

Answers to the motion must be filed by 5:00 p.m. Eastern Time on Tuesday, May 6, 2025.

Dated: April 29, 2025.
Carlos D. Clay,
Deputy Secretary.

[FR Doc. 2025-07764 Filed 5-2-25; 8:45 am]

BILLING CODE 6717-01-P